DEPARTMENT OF THE INTERIOR

Fish and Wildlife Service

[FWS-R9-FHC-2010-N059; 94240-1341-9BIS-N5]

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The ANS Task Force will meet from 8 a.m. to 5 p.m. on Wednesday, May 5, and from 8 a.m. to 5 p.m. on Thursday, May 6, 2010.

ADDRESSES: The ANS Task Force meeting will take place at the Holiday Inn Hotel & Convention Center by the Bay, 88 Spring Street, Portland, ME (207-775-2311). You may inspect minutes of the meeting at the office of the Chief, Division of Fisheries and Aquatic Resource Conservation, U.S. Fish and Wildlife Service, 4401 North Fairfax Drive, Arlington, VA 22203, during regular business hours, Monday through Friday. You may also view the minutes on the ANS Task Force Web site at: http://anstaskforce.gov/meetings.php.

FOR FURTHER INFORMATION CONTACT: Susan Mangin, Executive Secretary, ANS Task Force, at (703) 358-2466, or by e-mail at Susan_Mangin@fws.gov.

SUPPLEMENTARY INFORMATION: Under section 10(a)(2) of the Federal Advisory Committee Act (5 U.S.C. App.), this notice announces meetings of the ANS Task Force. The ANS Task Force was established by the Nonindigenous Aquatic Nuisance Prevention and Control Act of 1990.

Topics that the ANS Task Force plans to cover during the meeting include:

• Impacts of invasive tunicates.

• Effectiveness of outreach campaigns.

• Roles of ANS Task Force Regional Panels.

• National ANS Hotline.

The agenda and other related meeting information are on the ANS Task Force Web site at: http://anstaskforce.gov/meetings.php.

Dated: March 19, 2010.
Bryan Arroyo,
Co-Chair, Aquatic Nuisance Species Task Force, Assistant Director—Fisheries & Habitat Conservation.

[FR Doc. 2010-6879 Filed 3-26-10; 8:45 am]

BILLING CODE 4310-55-P